UNITED STATES INSTITUTE OF PEACE

Sunshine Act Meeting

AGENCY: United States Institute of Peace.

DATE/TIME: Thursday, January 29, 2004; 9:15 a.m.-5 p.m.

LOCATION: 1200 17th Street, NW., Suite 200, Washington, DC 20036.

STATUS: Open Session—Portions may be closed pursuant to Subsection (c) of Section 552(b) of Title 5, United States Code, as provided in subsection 1706(h)(3) of the United States Institute of Peace Act, Public Law 98-525.

AGENDA: January 2004 Board Meeting; Approval of Minutes of the One Hundred Twelfth Meeting (November 20, 2003) of the Board of Directors; Chairman's Report; President's Report; Committee Reports; Program Reports; Review of Individual Grant Applications; Other Issues.

CONTACT: Ms. Tessie Higgs, Executive Office, Telephone: (202) 429-3836.

Dated: January 12, 2004.
Harriet Hentges,
Executive Vice President, United States Institute of Peace.

[FR Doc. 04-1123 Filed 1-14-04; 1:03 pm]

BILLING CODE 6820-AR-M